FEDERAL MARITIME COMMISSION

Ocean Transportation Intermediary License; Applicants

Notice is hereby given that the following applicants have filed with the Federal Maritime Commission applications for licenses as Non-Vessel Operating Common Carriers and Ocean Freight Forwarders—Ocean Transportation Intermediaries pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Central Ocean Freight Inc., 1 River Place, Rm. 2113, New York, NY 10036, Officer:, Joeson Ko, President, (Qualifying Individual)

Movingarrow Logistics, 13337 South Street, Suite 280, Cerritos, CA 90703, Officer: Norman Kao, President (Qualifying Individual)

Max Oshima Inc. d/b/a Maxway Freight Systems, 929 West Spruce Street, Inglewood, CA 90301, Officers: Kuniaki Alex Tamaki, Vice President (Qualifying Individual) Max Oshima, President

Sea-Go International, Incorporated, 400 Washington Street, Mount Holly, NJ 08060, Officers: Roy J. Lombardo, President (Qualifying Individual) Steven G. Ochs, CEO

V.I.P. Relocations, Ltd., 21-01, 44 Road, Long Island City, NY 11101, Officers: Robert Hendler, President (Qualifying Individual) Richard McCombie, Vice President

Smartlink (U.S.A.), Inc., 184-45 147th Avenue, Suite 102, Springfield Gardens, NY 11413, Officer: Horace Wang, President (Qualifying Individual)

Non-Vessel Operating Common Carrier and Ocean Freight Forwarder Transportation Intermediary Applicants:

Skycel Inc. d/b/a Econcargo, 8220 NW 68th Street, Miami, FL 33166, Officers: Veronica Caraballo, Vice President (Qualifying Individual) Jose Luis Maza, President

Ocean Freight Forwarder—Ocean Transportation Intermediary Applicants:

Fagioli USA, Inc., 3050 Post Oak Boulevard, Suite 205, Houston, TX 77056-6570, Officers: Lothar Kammerer, Vice President (Qualifying Individual) Giovanni Fagioli, President

Oceanic Container Line, Inc. d/b/a Global Logistics Solutions, 167-21 Porter Road, Suite 201, Jamaica, NY 11434, Officer: Kenney W. Whitman, President (Qualifying Individual)

Aero Logistics of the United States of America, Inc., 270 Lawrence Avenue, So. San Francisco, CA 94080, Officers: Kelly Kirk, Operations Manager Rick Baggetta, President (Qualifying Individuals) Tony Bonino, CEO

Bryant L. VanBrakle,
Secretary.

[FR Doc. 01-5595 Filed 3-7-01; 8:45 am]

BILLING CODE 6730-01-P